OVERSEAS PRIVATE INVESTMENT CORPORATION

November 19, 2009 Board of Directors Meeting

Time and Date: Thursday, November 19, 2009, 10 a.m. (Open Portion). 10:15 a.m. (Closed Portion).

Place: Offices of the Corporation, Twelfth Floor Board Room, 1100 New York Avenue, NW., Washington, DC.

Status: Meeting Open to the Public from 10 a.m. to 10:15 a.m. Closed portion will commence at 10:15 a.m. (approx.).

Matters To Be Considered:

1. President's Report.

2. Approval of September 17, 2009 Minutes (Open Portion).

Further Matters To Be Considered: (Closed to the Public 10:15 a.m.).

1. Allocation to Retained Earnings.

2. Finance Project—Costa Rica.

3. Finance Project—Global.

4. Finance Project—Republic of Colombia.

5. Finance Project—Global.

6. Finance Project—Latin America.

7. Finance Project—Mexico.

8. Finance Project—Bulgaria.

9. Finance Project—Global.

10. Finance Project—Mexico, Central and South America, and the Caribbean.

11. Approval of September 17, 2009 Minutes (Closed Portion).

12. Pending Major Projects.

13. Reports.

Written summaries of the projects to be presented will be posted on OPIC's Web site on or about October 15, 2009.

Contact Person for Information: Information on the meeting may be obtained from Connie M. Downs at (202) 336-8438.

Dated: October 8, 2009.
Connie M. Downs,
Corporate Secretary, Overseas Private Investment Corporation.

[FR Doc. E9-24679 Filed 10-8-09; 4:15 pm]

BILLING CODE 3210-01-P